DEPARTMENT OF ENERGY

Federal Energy Regulatory Commission

Notice of Application To Permit Non-Project Use of Project Lands and Soliciting Comments, Motions To Intervene, and Protests

September 26, 2001.

Take notice that the following application has been filed with the Commission and is available for public inspection:

a. Application Type: Amendment of License.

b. Project No.: 2146-093.

c. Date Filed: September 13, 2001.

d. Licensee: Alabama Power Company.

e. Name of Project: Coosa River Hydroelectric Project.

f. Location: The project is located on the Coosa River, in Calhoun, St. Clair, and Etowah Counties, Alabama. This project does not occupy any federal lands.

g. Filed Pursuant to: Federal Power Act, 16 U.S.C. 791(a)-825(r).

h. Licensee Contact: Mr. Keith Bryant, Alabama Power Company, PO Box 2641, Birmingham, Alabama 35291. (205) 257-1403.

i. FERC Contact: Any questions on this notice should be addressed to Steve Naugle, steven.naugle@ferc.fed.us, or (202) 219-2805.

j. Deadline for filing comments and or motions: (October 27, 2001).

All documents (original and eight copies) should be filed with Mr. David P. Boergers, Secretary, Federal Energy Regulatory Commission, 888 First Street, NE., Washington, DC 20426. Comments, protests and interventions may be filed electronically via the internet in lieu of paper. See, 18 CFR 385.2001(a)(1)(iii) and the instructions on the Commission's web site at http://www.ferc.fed.us/rfi/doorbell.htm. Please reference the following number, P-2146-093, on any comments or motions filed.

k. Description of Proposal: The licensee proposes to permit those elements of a planned residential development proposed by Pinnacle Communities LLC that would be located within the project boundary. The proposed development is located on Lay Reservoir, approximately three miles from the City of Childersburg in Talladega County, Alabama. The elements of the development that would occupy project lands include: A nine-hole, par-three, golf course; walking trails; a waterfront park with picnic shelters, a gazebo, and a swimming pool; tennis courts; an activities field; a community garden; boat docks to accommodate up to 84 watercraft; a shoreline swimming area; a boat ramp; a boat storage area; and an access road with adjacent parking areas.

The proposed development, known as RiverWalk, would occupy a total of 239 acres and has about 2,700 feet of water frontage. Approximately 68 acres of the development are project lands (below contour elevation 407 mean sea level) for which the licensee holds a flood easement. The development, which would be completed in four phases, would ultimately consist of 336 residential lots. Approximately 90 of the lots are partly within the project boundary. Phase I, consisting of 79 lots, has already been completed.

l. Locations of the Application: A copy of the application is available for inspection and reproduction at the Commission's Public Reference Room, at 888 First Street, NE., Room 2A, Washington, DC 20426, or by calling 202-208-1371. The application may be viewed on-line at http://www.ferc.fed.us/online/rims.htm (call 202-208-2222 for assistance). A copy is also available for inspection and reproduction at the address in item h above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Acting Secretary.

[FR Doc. 01-24549 Filed 10-1-01; 8:45 am]

BILLING CODE 6717-01-P